ENVIRONMENTAL PROTECTION AGENCY

[ER-FRL-66834]

Environmental Impacts Statements; Notice of Availability

Responsible Agency: Office of Federal Activities, General Information (202) 564-7167 or http://www.epa.gov/compliance/nepa/

Weekly receipt of Environmental Impact Statements

Filed 01/15/2007 Through 1/19/2007

Pursuant to 40 CFR 1506.9.

EIS No. 20070012, Final EIS, FHW, CA, Campus Parkway Project, Construction of a New Expressway from Mission Avenue Interchange to Yosemite Avenue/Lake Road, US Army COE Section 404 Permit, City of Merced, Merced County, CA, Wait Period Ends: 02/26/2007, Contact: Maiser Khaled 916-498-5020.

EIS No. 20070013, Final EIS, DOE, FL, Orlando Gasification Project (DOE/EIS-0383), To Provide Cost-Shared Funding for Construction, Design, and Operation a New Plant, Orlando, FL, Wait Period Ends: 02/26/2007, Contact: Richard A. Hasgis, Jr. 412-386-6065.

EIS No. 20070014, Draft EIS, FHW, WI, WI-15 Expansion, from New London to Greenville, Funding, US Army COE 404 Permit, Outagamie County, WI, Comment Period Ends: 03/23/2007, Contact: Johnny Gerbitz 608-829-7500.

EIS No. 20070015, Draft EIS, CDB, NY, East River Waterfront Esplanade and Piers Project, Revitalization, Connecting Whitehall Ferry Terminal and Peter Minuit Plaza to East River Park, Funding New York, NY, Comment Period Ends: 03/19/2007, Contact Victor Gallo 212-962-2300. This document is available on the Internet at: http://www.renewnyc.com.

EIS No. 20070016, Draft EIS, COE, OH, Dover Dam Safety Assurance Program Project, Modifications and Upgrades, Funding, Muskingum River Basin, Tscarawas County, OH, Comment Period Ends: 03/12/2007, Contact: Rodney Cremeans 304-399-5170.

EIS No. 20070017, Final EIS, NRC, NJ, GENERIC—License Renewal of Nuclear Plants (GEIS) Regarding Oyster Creek Nuclear Generating Station Supplement 28 to NUREG-1437, Located adjacent to Barnegat Bay, Lacy and Ocean Townships, Ocean County, NJ, Wait Period Ends: 02/26/2007, Contact: Michael Masnik 301-415-191.

EIS No. 20070018, Draft EIS, RUS, MO, Norborne Baseload Power Plant, Proposed Construction and Operation of a 660-megawatt Net Coal-Fired Power Plant, Carroll County, MO, Comment Period Ends: 03/12/2007, Contact: Stephanie A. Strength 202-720-0468.

Amended Notices

EIS No. 20060500, Draft EIS, AFS, CA, Little Doe and Low Gulch Timber Sale Project, Proposes to Harvest Commercial Timber, Six Rivers National Forest, Mad River Ranger District, Trinity County, CA, Comment Period Ends: 03/12/2007, Contact: Ruben Escatell 707-574-6233.

Revision of FR Notice Published 12/08/2006: Extending Comment Period from 01/22/2007 to 03/12/2007.

Dated: January 23, 2007.
Robert W. Hargrove,
Director, NEPA Compliance Division, Office of Federal Activities.

[FR Doc. 07-336 Filed 1-25-07; 8:45 am]

BILLING CODE 6560-50-M